ENVIRONMENTAL PROTECTION AGENCY

[FRL-7796-7]

Extension of Comment Period on the Notice of Data Availability for the Truck Stop Electrification Codes and Electrical Standards

AGENCY: Environmental Protection Agency (EPA).

ACTION: Extension of comment period.

SUMMARY: On July 8, 2004, EPA published a Notice of Data Availability presenting data on potential codes and electrical standards for truck stop electrification. The notice presented a summary of data collected at an EPA public workshop on developing consistent, national truck stop electrification codes and electrical standards. This action extends the comment period for the Notice of Data Availability to October 9, 2004.

DATES: Comments on the Notice of Data Availability will be accepted through October 9, 2004.

ADDRESSES: Comments may be submitted electronically or by mail to the contact below or through EPA Dockets at http://www.epa.gov/edocket/ by searching on the appropriate docket identification number. EPA will make available for public inspection at the Air and Radiation Docket written comments received from interested parties. The official public docket is the collection of materials that is available for public viewing at the Air and Radiation Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Air and Radiation Docket is (202) 566-1743. The reference number for this docket is OAR-2003-0226.

FOR FURTHER INFORMATION CONTACT: Elizabeth Lonoff, Transportation and Regional Programs Division (6406J), U.S. Environmental Protection Agency, 1200 Pennsylvania Ave., NW., Washington, DC 20460. Telephone: (202) 343-9147, e-mail address: Lonoff.Elizabeth@EPA.GOV.

Dated: July 28, 2004.
Margo Tsirigotis Oge,
Director, Transportation and Regional Programs Division.

[FR Doc. 04-17661 Filed 8-2-04; 8:45 am]

BILLING CODE 6560-50-P